DEPARTMENT OF THE INTERIOR

Bureau of Land Management

[AA-8489; AK-965-1410-KC-P]

Alaska Native Claims Selection

AGENCY: Bureau of Land Management, Interior.

ACTION: Notice of decision adjusting entitlement.

SUMMARY: As required by 43 CFR 2650.7(d), notice is hereby given that an appealable decision adjusting the entitlement granted to the Native village of Chickaloon by Section 12(a) of the Alaska Native Claims Settlement Act will be issued to Chickaloon Moose Creek Native Association, Inc. The adjustment is made pursuant to Sec. 12(a)(3) of the Act of January 2, 1976, and Section 4(a) of the Act of October 4, 1976. The adjusted entitlement is as follows:

Statutory entitlement | Adjusted entitlement
69,120 acres | 64,905 acres.

The decision to be issued vacates and replaces the decision issued to Chickaloon Moose Creek Native Association, Inc., on August 21, 1986. Notice of that decision was published in the Federal Register on the same day, 51 FR 29967, 29968.

DATES: The time limits for filing an appeal are:

1. Any party claiming a property interest which is adversely affected by the decision shall have until July 31, 2008 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION, CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Ramona Chinn,
Acting State Director.

[FR Doc. E8-14713 Filed 6-30-08; 8:45 am]

BILLING CODE 4310-JA-P